DEPARTMENT OF LABOR

Office of the Secretary

Submission for OMB Review; Comment Request

June 12, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting the Department of Labor. To obtain documentation, contact Darrin King on 202-693-4129 (this is not a toll-free number) or E-Mail: king.darrin@dol.gov.

Comments should be sent to Office of Information and Regulatory Affairs, Attn: OMB Desk Officer for the Bureau of Labor Statistics (BLS), Office of Management and Budget, Room 10235, Washington, DC 20503 (202-395-7316 / this is not a toll-free number), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Bureau of Labor Statistics.

Type of Review: Reinstatement, with change, of a previously approved collection for which approval has expired.

Title: National Longitudinal Survey of Youth 1979.

OMB Number: 1220-0109.

Affected Public: Individuals or households.

Type of Response: Reporting.

Frequency: Biennially.

Number of Respondents: 13,530.

Form | Total respondents | Total responses | Average response time (minutes) | Annual burden hours
NLSY79 Round 21 Pretest | 30 | 30 | 60 | 30
NLSY79 Round 21 Main Survey | 8,000 | 8,000 | 60 | 8,000
Round 21 Validation Interviews | 200 | 200 | 6 | 20
Mother Supplement * (Mothers of children under age 15) | 2,000 | 3,000 | 21 | 1,050
Child Supplement (Children under age 15) | 2,700 | 2,700 | 31 | 1,395
Child Self-Administered Questionnaire (Children ages 10-14) | 1,500 | 1,500 | 30 | 750
Young Adult Survey (Youths ages 15 to 20) | 2,800 | 2,800 | 45 | 2,100
TOTALS |  | 18,230 |  | 13,345
* Note: The number of respondents for the Mother Supplement (2,000) is less than the number of responses (3,000) because mothers are asked to provide separate responses for each of the biological children with whom they reside.

Total Annualized Capital/Startup Costs: $0.

Total Annual Costs (operating/maintaining systems or purchasing services): $0.

Description: DOL is seeking OMB approval for the 21st wave of data collection for the National Longitudinal Survey of Youth 1979 (NLSY79). The information obtained in this survey will be used by the Department of Labor, other government agencies, academic researchers, the news media, and the general public to understand the employment experiences and life-cycle transitions of men and women born in the years 1957 to 1964 and living in the United States when the survey began in 1979. The NLSY79 data represent an important means of fulfilling BLS responsibilities under Title 29 U.S.C. 2, “Collection, collation, and reports of labor statistics.”

Ira L. Mills,
Departmental Clearance Officer.

[FR Doc. 03-15609 Filed 6-19-03; 8:45 am]

BILLING CODE 4510-28-P